DEPARTMENT OF HEALTH AND HUMAN SERVICES

Health Resources and Services Administration

Privacy Act of 1974; Report of an Altered System of Records

AGENCY: Department of Health and Human Services (HHS), Health Resources and Services Administration (HRSA).

ACTION: Notice of an Altered System of Records (SOR).

SUMMARY: In accordance with the requirements of the Privacy Act of 1974, the Health Resources and Services Administration (HRSA) is publishing a notice to alter the Correspondence Control System. This system of records is used to control and track all correspondence documents addressed or directed to, as well as initiated by, the Administrator, HRSA, or his/her subordinates, as well as other Agency documents, to assure timely and appropriate attention.

The purposes of these alterations are to reflect a change in the system name and location; the system manager and address; policies and practices for storing, retrieving, accessing, retaining, and disposing of records in the system; contesting records procedures; and the addition of routine use number 3. The last update of this SORN #09-15-0059 was December 23, 1998 (63 FR 71145).

DATES: HRSA has filed an altered system report with the Chair of the House Committee on Government Reform and Oversight, the Chair of the Senate Committee on Homeland Security and Governmental Affairs, and the Administrator, Office of Information and Regulatory Affairs, Office of Management and Budget (OMB) on June 15, 2010.

To ensure all parties have adequate time in which to comment, the altered systems, including the routine uses, will become effective 30 days from the publication of the notice or 40 days from the date it was submitted to OMB and Congress, whichever is later, unless HRSA receives comments that require alterations to this notice.

ADDRESSES: The public should address comments to Sahira Rafiullah, Director, Division of Policy and Information Coordination, Health Resources and Services Administration, 5600 Fishers Lane, Room 14A-11, Rockville, Maryland 20857; Telephone (301) 443-1785. This is not a toll-free number. Comments received will be available for inspection at the same address from 9 a.m. to 3 p.m. eastern standard time zone, Monday through Friday.

FOR FURTHER INFORMATION CONTACT: Director, Division of Policy and Information Coordination, Office of Management, 5600 Fishers Lane, Room 14A-11, Rockville, Maryland 20857; Telephone (301) 443-1785. This is not a toll-free number.

SUPPLEMENTARY INFORMATION: The Health Resources and Services Administration is updating the system of records notice to reflect a change in the name from Correspondence Control System to Strategic Work Information and Folder Transfer System. The change in location is from a specific Bureau to a central location in the Division of Policy and Information Coordination, Office of Management, Office of Operations, HRSA, 5600 Fishers Lane, Room 14A-11, Rockville, Maryland 20857. The change in system manager and address is from Policy Coordinator to Director, Division of Policy and Information Coordination and the change of address is from Room 14-08 to Room 14A-11. The change in categories of records reflects more clarification as well as current technology. The change in storage reflects an update of current technology. The change in retrievability is further clarification of staff. The change in retention and disposal is to reflect a revision in the retention and disposal schedule. The addition of a new routine use is to include appropriate Federal agencies and Department contractors for the purpose of assisting the Department's efforts to respond to a suspected or confirmed breach of the security or confidentiality of the information maintained in this system of records.

Dated: September 9, 2010.
Mary K. Wakefield,
Administrator.

SYSTEM NUMBER:

09-15-0059

SYSTEM NAME:

Strategic Work Information and Folder Transfer System (SWIFT), HHS/HRSA/OO/OM.

SECURITY CLASSIFICATION:

None.

SYSTEM LOCATION:

Division of Policy and Information Coordination, Office of Management, Office of Operations, Health Resources and Services Administration (HRSA), 5600 Fishers Lane, Room 14A-11, Rockville, MD 20857.

CATEGORIES OF INDIVIDUALS COVERED BY THE SYSTEM:

Individuals who have sent written correspondence (including e-mails and faxes) or other documents to the Administrator, HRSA, the Deputy Administrator, an associate administrator, or a bureau director, or individuals who have been contacted in writing by one of these officials.

CATEGORIES OF RECORDS IN THE SYSTEM:

Correspondence includes incoming letters, memos, relevant background information, and agency outgoing correspondence. Other documents include Reports to Congress, Regulations, Federal Register notices and records management schedules. This information is contained on hardcopy printouts and a secured network server managed by IT staff.

AUTHORITY FOR MAINTENANCE OF THE SYSTEM:

5 U.S.C. 301, Departmental Regulations.

PURPOSE(S) FOR RECORDS IN THIS SYSTEM:

To control and track all correspondence addressed or directed to and initiated by the Administrator, HRSA, or his/her subordinates as indicated above, as well as other documents, to assure timely and appropriate attention by relevant HRSA staff.

ROUTINE USES OF RECORDS MAINTAINED IN THE SYSTEM, INCLUDING CATEGORIES OF USERS AND THE PURPOSES OF SUCH USES:

1. The Department of Health and Human Services (DHHS) may disclose information from this system of records to a congressional office from the record of an individual in response to a verified inquiry from the congressional office made at the request of that individual.

2. DHHS may disclose information from this system of records to the Department of Justice, or to a court or other tribunal, when:

a. DHHS, or any component thereof; or

b. Any DHHS employee in his or her official capacity; or

c. Any DHHS employee in his or her individual capacity where the Department of Justice (or DHHS, where authorized to do so) has agreed to represent the employee; or

d. The United States, or any agency thereof where DHHS determines that the litigation is likely to affect DHHS or any of its components, is a party to litigation or has an interest in such litigation, and DHHS determines that the use of such records by the Department of Justice, the court or other tribunal is relevant and necessary to the litigation and would help in the effective representation of the governmental party, provided, however, that in each case, DHHS determines that such disclosure is compatible with the purpose for which the records were collected.

3. DHHS may disclose information from this system of records to appropriate Federal agencies and Department contractors that have a need to know the information for the purpose of assisting the Department's efforts to respond to a suspected or confirmed breach of the security or confidentiality of information maintained in this system of records, and the information disclosed is relevant and necessary for that assistance.

POLICIES AND PRACTICES FOR STORING, RETRIEVING, ACCESSING, RETAINING, AND DISPOSING OF RECORDS IN THE SYSTEM:

1. STORAGE: Controlled correspondence records and other document records are maintained in hardcopy and electronically at the operational computer site.

2. RETRIEVABILITY: Hardcopy records are indexed chronologically by date, name, subject and unique numerical control number. Electronic records are indexed chronologically by date, name, subject and unique numeral control number. Records are available to staff responsible for preparation of correspondence and to the staff of the Division of Policy and Information Coordination.

3. SAFEGUARDS: Access to hardcopy and computer resident records is limited to the staff of the Division of Policy and Information Coordination and Bureau correspondence liaisons. Privacy training is required for those individuals. Access to hardcopy records during non-working hours is limited to these individuals who have keys to both the file cabinets and rooms where the records are stored. Remote computer terminal locations are protected with individual user identification codes and associated passwords that are changed periodically. When possible, computer terminal locations are locked during non-working hours. Confidential and/or sensitive documents are either hand carried or transmitted in sealed envelopes. Employees who handle controlled correspondence and other documents are instructed to observe established office procedures to protect correspondence documents from unauthorized access.

RETENTION AND DISPOSAL:

Temporary hardcopy records are cut off at the end of each calendar year, retained on-site for 2 years, transferred to the Washington National Records Center (WNRC), and destroyed by WNRC 5 years later, in accordance with established records retention and disposition schedules. Permanent hardcopy records are cut off at the end of each calendar year, retained on-site for 2 years, transferred to the Washington National Records Center, and then 5 years later transferred to the National Archives and Records Administration (NARA). HRSA is working with NARA to obtain the appropriate retention value regarding electronic records.

SYSTEM MANAGER AND ADDRESS:

Director, Division of Policy and Information Coordination, Room 14A-11, Parklawn Bldg., 5600 Fishers Lane, Rockville, MD.

NOTIFICATION PROCEDURE:

Inquiries for correspondence should indicate the name of the individual with whom HRSA corresponded and, where possible, the date of the incoming correspondence to HRSA, if any, and the date of the outgoing correspondence from HRSA. Inquiries for other documents should indicate the name of the document and, where possible, the date of the document.

RECORDS ACCESS PROCEDURES:

Requesters must provide identification that they are who they claim to be and their understanding that obtaining information under false pretenses is subject to a maximum statutory penalty of $5,000. Requesters may also ask for an accounting of disclosures that have been made of records that relate to them, if any.

CONTESTING RECORDS PROCEDURES:

Contact the official at the address specified under notification procedures above, and reasonably identify the record, specify the information to be contested, the corrective action sought, and the reason for seeking the correction, with supporting information to show how the record is inaccurate, incomplete, untimely, or irrelevant.

RECORD SOURCE CATEGORIES:

Records are derived from incoming correspondence to, and the outgoing correspondence of, the Administrator, HRSA, or his/her subordinates as indicated above. Records are also derived from other documents within the Agency.

SYSTEMS EXEMPTED FROM CERTAIN PROVISIONS OF THE PRIVACY ACT:

None.

[FR Doc. 2010-23711 Filed 9-21-10; 8:45 am]

BILLING CODE 4165-15-P